DEPARTMENT OF ENERGY

Federal Energy Regulatory Commission

Combined Notice of Filings

October 13, 2020.

Take notice that the Commission has received the following Natural Gas Pipeline Rate and Refund Report filings:

Docket Number: PR21-1-000.

Applicants: Gulf Coast Express Pipeline LLC.

Description: Tariff filing per 284.123(b),(e)+(g): Petition for NGPA Section 311 Rate Approval to be effective 11/1/2020.

Filed Date: 10/1/2020.

Accession Number: 202010015123.

Comments Due: 5 p.m. ET 10/22/2020.

284.123(g) Protests Due: 5 p.m. ET 11/30/2020.

Docket Number: PR21-2-000.

Applicants: Columbia Gas of Ohio, Inc.

Description: Tariff filing per 284.123(b),(e)/: COH Rates effective 9-28-2020 to be effective 9/28/2020.

Filed Date: 10/9/2020.

Accession Number: 202010095027.

Comments/Protests Due: 5 p.m. ET 10/30/2020.

Docket Numbers: RP20-1097-001.

Applicants: Dominion Energy Questar Pipeline, LLC.

Description: Compliance filing DEQP-BHE Transition Compliance filing to be effective 11/1/2020.

Filed Date: 10/9/20.

Accession Number: 20201009-5041.

Comments Due: 5 p.m. ET 10/21/20.

Docket Numbers: RP21-41-000.

Applicants: Egan Hub Storage, LLC.

Description: § 4(d) Rate Filing: Egan LINK URL Conversion Filing to be effective 11/15/2020.

Filed Date: 10/9/20.

Accession Number: 20201009-5000.

Comments Due: 5 p.m. ET 10/21/20.

Docket Numbers: RP21-42-000.

Applicants: Saltville Gas Storage Company L.L.C.

Description: § 4(d) Rate Filing: SGSC LINK URL Conversion Filing to be effective 11/15/2020.

Filed Date: 10/9/20.

Accession Number: 20201009-5001.

Comments Due: 5 p.m. ET 10/21/20.

Docket Numbers: RP21-43-000.

Applicants: Southeast Supply Header, LLC.

Description: § 4(d) Rate Filing: SESH LINK URL Conversion Filing to be effective 11/15/2020.

Filed Date: 10/9/20.

Accession Number: 20201009-5002.

Comments Due: 5 p.m. ET 10/21/20.

Docket Numbers: RP21-44-000.

Applicants: Cheniere Creole Trail Pipeline, L.P.

Description: § 4(d) Rate Filing: Housekeeping and Metadata Cleanup to be effective 11/9/2020.

Filed Date: 10/9/20.

Accession Number: 20201009-5044.

Comments Due: 5 p.m. ET 10/21/20.

Docket Numbers: RP21-45-000.

Applicants: Iroquois Gas Transmission System, L.P.

Description: § 4(d) Rate Filing: 100920 Negotiated Rates—NextEra Energy Marketing, LLC R-4015-09 to be effective 11/1/2020.

Filed Date: 10/9/20.

Accession Number: 20201009-5073.

Comments Due: 5 p.m. ET 10/21/20.

Docket Numbers: RP21-46-000.

Applicants: Iroquois Gas Transmission System, L.P.

Description: § 4(d) Rate Filing: 100920 Negotiated Rates—NextEra Energy Marketing, LLC R-4015-10 to be effective 11/1/2020.

Filed Date: 10/9/20.

Accession Number: 20201009-5074.

Comments Due: 5 p.m. ET 10/21/20.

Docket Numbers: RP21-47-000.

Applicants: Iroquois Gas Transmission System, L.P.

Description: § 4(d) Rate Filing: 100920 Negotiated Rates—Castleton Commodities Merchant Trading L.P. R-4010-22 to be effective 12/1/2020.

Filed Date: 10/9/20.

Accession Number: 20201009-5094.

Comments Due: 5 p.m. ET 10/21/20.

Docket Numbers: RP21-48-000.

Applicants: Iroquois Gas Transmission System, L.P.

Description: § 4(d) Rate Filing: 100920 Negotiated Rates—Castleton Commodities Merchant Trading L.P. R-4010-21 to be effective 12/1/2020.

Filed Date: 10/9/20.

Accession Number: 20201009-5095.

Comments Due: 5 p.m. ET 10/21/20.

Docket Numbers: RP21-49-000.

Applicants: Iroquois Gas Transmission System, L.P.

Description: § 4(d) Rate Filing: 100920 Negotiated Rates—Castleton Commodities Merchant Trading L.P. R-4010-25 to be effective 12/1/2020.

Filed Date: 10/9/20.

Accession Number: 20201009-5098.

Comments Due: 5 p.m. ET 10/21/20.

Docket Numbers: RP21-50-000.

Applicants: Iroquois Gas Transmission System, L.P.

Description: § 4(d) Rate Filing: 100920 Negotiated Rates—Castleton Commodities Merchant Trading L.P. R-4010-26 to be effective 11/1/2020.

Filed Date: 10/9/20.

Accession Number: 20201009-5101.

Comments Due: 5 p.m. ET 10/21/20.

Docket Numbers: RP21-51-000.

Applicants: Transcontinental Gas Pipe Line Company, LLC.

Description: § 4(d) Rate Filing: Intitial Rates Leidy South Project to be effective 11/11/2020.

Filed Date: 10/9/20.

Accession Number: 20201009-5106.

Comments Due: 5 p.m. ET 10/21/20.

Docket Numbers: RP21-52-000.

Applicants: Trunkline Gas Company, LLC.

Description: Compliance filing Annual Interruptible Storage Revenue Credit filed 10-9-20.

Filed Date: 10/9/20.

Accession Number: 20201009-5109.

Comments Due: 5 p.m. ET 10/21/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2020.
Nathaniel J. Davis, Sr.,
Deputy Secretary.

[FR Doc. 2020-23057 Filed 10-16-20; 8:45 am]

BILLING CODE 6717-01-P